DEPARTMENT OF TRANSPORTATION

Federal Aviation Administration

14 CFR Part 39

[Docket No. FAA-2014-0347; Directorate Identifier 2013-NM-173-AD]

RIN 2120-AA64

Airworthiness Directives; the Boeing Company Airplanes

AGENCY: Federal Aviation Administration (FAA), DOT.

ACTION: Notice of proposed rulemaking (NPRM).

SUMMARY: We propose to adopt a new airworthiness directive (AD) for certain The Boeing Company Model 767-200 and -300 series airplane equipped with Pratt & Whitney Model JT9D or PW4000 engines. This proposed AD was prompted by a report of several cases of low hydraulic pressure or loss of electrical power to the alternating current motor pump (ACMP) on the left engine. This proposed AD would require inspecting for damage of the wiring bundles in the left engine's strut and corrective actions if necessary, and installing new wire support brackets and bundle clamp. We are proposing this AD to detect and correct chafed wire bundles due to rubbing against structure or a hydraulic piping elbow, which could result in electrical arcing in a flammable fluid leakage zone, and would provide a possible ignition source for fuel vapors and hydraulic fluids. Ignited fuel vapors or hydraulic fluid in an area without a fire detection or suppression system could result in an uncontained engine strut fire and structural damage to the engine strut.

DATES: We must receive comments on this proposed AD by August 14, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0347; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Georgios Roussos, Aerospace Engineer, Systems and Equipment Branch, ANM-130S, FAA, Seattle Aircraft Certification Office, 1601 Lind Avenue SW., Renton, WA 98057-3356; phone: 425-917-6482; fax: 425-917-6590; email: georgios.roussos@faa.gov.

SUPPLEMENTARY INFORMATION:

Comments Invited

We invite you to send any written relevant data, views, or arguments about this proposal. Send your comments to an address listed under the ADDRESSES section. Include “Docket No. FAA-2014-0347; Directorate Identifier 2013-NM-173-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received a report of several cases of low hydraulic pressure or loss of electrical power to the ACMP on the left engine. These cases were found to be caused by a damaged power feeder wire bundle in the outboard aft fairing area of the left engine strut. In most of the cases, the wire bundle had chafed against the fuse pin washer at the midspar fitting and signs of arcing were found. In one case, the wire bundle was found to have chafed against a hydraulic piping elbow near the fuse pin washer, which resulted in a severed wire bundle and a hole in the hydraulic piping elbow. That hole in the hydraulic piping elbow, if not found, could result in a hydraulic fluid leak. Wire bundles that are chafed due to rubbing against structure or the hydraulic piping elbow, if not detected and corrected, could result in electrical arcing in a flammable fluid leakage zone, and would provide a possible ignition source for fuel vapors and hydraulic fluids. Ignited fuel vapors or hydraulic fluid in an area without a fire detection or suppression system could result in an uncontained engine strut fire and structural damage to the engine strut.

Related Rulemaking

AD 2004-16-12, Amendment 39-13768 (69 FR 51002, August 17, 2004), also applies to certain Model 767 airplanes that are powered by Pratt & Whitney engines. AD 2004-16-12 required actions to prevent fatigue cracking in primary strut structure, which could result in separation of the strut and engine from the airplane. One of those actions is the prior or concurrent accomplishment of Boeing Service Bulletin 767-29-0057, dated December 16, 1993; or Revision 1, dated August 14, 2003.

Relevant Service Information

We reviewed Boeing Alert Service Bulletin 767-29A0115, dated May 22, 2013. For information on the procedures and compliance times, see this service information at http://www.regulations.gov by searching for Docket No. FAA-2014-0347.

Boeing Alert Service Bulletin 767-29A0115, dated May 22, 2013, specifies concurrent or prior accomplishment of Boeing Service Bulletin 767-29-0057, Revision 3, dated June 9, 2011, for modification of certain wire bundles.

FAA's Determination

We are proposing this AD because we evaluated all the relevant information and determined the unsafe condition described previously is likely to exist or develop in other products of the same type design.

Proposed AD Requirements

This proposed AD would require inspecting for damage of the wiring bundles in the left engine's strut, and corrective actions if necessary; and installing new wiring support brackets and bundle clamp.

The phrase “corrective actions” is used in this proposed AD. “Corrective actions” are actions that correct or address any condition found. Corrective actions in an AD could include, for example, repairs.

The FAA worked in conjunction with industry, under the Airworthiness Directives Implementation Aviation Rulemaking Committee, to enhance the AD system. One enhancement was a new process for annotating which steps in the service information are required for compliance with an AD. Differentiating these steps from other tasks in the service information is expected to improve an owner's/operator's understanding of crucial AD requirements and help provide consistent judgment in AD compliance. The actions specified in Boeing Alert Service Bulletin 767-29A0115, dated May 22, 2013, described previously include steps that are labeled as RC (required for compliance) because these steps have a direct effect on detecting, preventing, resolving, or eliminating an identified unsafe condition.

As noted in Boeing Alert Service Bulletin 767-29A0115, dated May 22, 2013, steps labeled as RC must be done to comply with the proposed AD. However, steps that are not labeled as RC are recommended. Those steps that are not labeled as RC may be deviated from, done as part of other actions, or done using accepted methods different from those identified in Boeing Alert Service Bulletin 767-29A0115, dated May 22, 2013, without obtaining approval of an alternative method of compliance (AMOC), provided the steps labeled as RC can be done and the airplane can be put back in a serviceable condition. Any substitutions or changes to steps labeled as RC will require approval of an AMOC.

Costs of Compliance

We estimate that this proposed AD affects 126 airplanes of U.S. registry.

We estimate the following costs to comply with this proposed AD:

Estimated Costs
Action | Labor cost | Parts cost | Cost per product | Cost on U.S. operators
Inspection and installation | 13 work-hours × $85 per hour = $1,105 | $349 | $1,454 | $183,204

We have received no definitive data that would enable us to provide cost estimates for the on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2014-0347; Directorate Identifier 2013-NM-173-AD.

(a) Comments Due Date

We must receive comments by August 14, 2014.

(b) Affected ADs

None.

(c) Applicability

This AD applies to the Boeing Company Model 767-200 and -300 series airplanes, certificated in any category, equipped with Pratt & Whitney Model JT9D or PW4000 engines, as identified in Boeing Alert Service Bulletin 767-29A0115, dated May 22, 2013.

(d) Subject

Air Transport Association (ATA) of America Code 29, Hydraulic Power.

(e) Unsafe Condition

This AD was prompted by a report of several cases of low hydraulic pressure or loss of electrical power to the alternating current motor pump (ACMP) on the left engine. We are issuing this AD to detect and correct chafed wire bundles due to rubbing against structure or a hydraulic piping elbow, which could result in electrical arcing in a flammable fluid leakage zone, and would provide a possible ignition source for fuel vapors and hydraulic fluids. Ignited fuel vapors or hydraulic fluid in an area without a fire detection or suppression system could result in an uncontained engine strut fire and structural damage to the engine strut.

(f) Compliance

Comply with this AD within the compliance times specified, unless already done.

(g) Inspection and Corrective Actions

Within 48 months after the effective date of this AD, do a detailed inspection for damage of the wiring bundles in the left engine's strut, and all applicable corrective actions; and install new wire support brackets and bundle clamps; in accordance with the Accomplishment Instructions of Boeing Alert Service Bulletin 767-29A0115, dated May 22, 2013. Do all applicable corrective actions before further flight.

(h) Prior or Concurrent Action

For airplanes identified as Group 1 airplanes in Boeing Alert Service Bulletin 767-29A0115, dated May 22, 2013: Prior to or concurrently with doing the actions required by paragraph (g) of this AD, do a modification of the wire bundles, in accordance with the Accomplishment Instructions of Boeing Service Bulletin 767-29-0057, Revision 3, dated June 9, 2011.

Note 1 to paragraph (h) of this AD: For certain airplanes, paragraph (b) of AD 2004-16-12, Amendment 39-13768 (69 FR 51002, August 17, 2004), references Boeing Service Bulletin 767-29-0057, dated December 16, 2003; and Boeing Service Bulletin 767-29-0057, Revision 1, dated August 14, 2003; as concurrent requirements.

(i) Credit for Previous Actions

This paragraph provides credit for the actions specified in paragraph (h) of this AD, if those actions were performed before the effective date of this AD using any of the service information identified in paragraphs (i)(1), (i)(2), and (i)(3) of this AD, which are not incorporated by reference in this AD.

(1) Boeing Service Bulletin 767-29-0057, dated December 16, 1993.

(2) Boeing Service Bulletin 767-29-0057, Revision 1, dated August 14, 2003.

(3) Boeing Service Bulletin 767-29-0057, Revision 2, dated September 24, 2009.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) If the service information contains steps that are labeled as RC (Required for Compliance), those steps must be done to comply with this AD; any steps that are not labeled as RC are recommended. Those steps that are not labeled as RC may be deviated from, done as part of other actions, or done using accepted methods different from those identified in the specified service information without obtaining approval of an AMOC, provided the steps labeled as RC can be done and the airplane can be put back in a serviceable condition. Any substitutions or changes to steps labeled as RC require approval of an AMOC.

(k) Related Information

(1) For more information about this AD, contact Georgios Roussos, Aerospace Engineer, Systems and Equipment Branch, ANM-130S, FAA, Seattle Aircraft Certification Office, 1601 Lind Avenue SW., Renton, WA 98057-3356; phone: (425) 917-6482; fax: (425) 917-6590; email: georgios.roussos@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Issued in Renton, Washington, on June 19, 2014.
Michael Kaszycki,
Acting Manager, Transport Airplane Directorate, Aircraft Certification Service.

[FR Doc. 2014-15247 Filed 6-27-14; 8:45 am]

BILLING CODE 4910-13-P